FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 25, 2017.

A. Federal Reserve Bank of Dallas (Robert L. Triplett III, Senior Vice President) 2200 North Pearl Street, Dallas, Texas 75201-2272:

1. Lindsey Limited Family Partnership Number 2, Jasper, Texas; to retain voting shares of East Texas Bancshares, Inc., Livingston, Texas, and thereby indirectly retain shares of First National Bank of Jasper, Jasper, Texas, and First State Bank of Livingston, Livingston, Texas.

B. Federal Reserve Bank of Kansas City (Dennis Denney, Assistant Vice President) 1 Memorial Drive, Kansas City, Missouri 64198-0001:

1. Brandon Vering, Marysville, Kansas; as co-trustee of the Florence J. Summerville Trust No. 1 and the Beryl Padgett Trust No. 1 and individually; to retain voting shares of Padgett Agency, Inc., Greenleaf, Kansas (the company), and thereby retain shares of The Citizens National Bank, Greenleaf, Kansas. Additionally, Mr. Vering seeks approval as a member of the Padgett Family Group.

C. Federal Reserve Bank of Minneapolis (Brendan S. Murrin, Assistant Vice President) 90 Hennepin Avenue, Minneapolis, Minnesota 55480-0291:

1. Clinton J. Nelson, Lakeshore, Minnesota and Clinton J. Nelson, and Carol A. Nelson, Lakeshore, Minnesota; as a group acting in concert to retain voting shares of Great River Holding Company, Baxter, Minnesota, and thereby retain shares of Riverwood Bank, Baxter, Minnesota.

D. Federal Reserve Bank of Philadelphia (William Spaniel, Senior Vice President) 100 North 6th Street, Philadelphia, Pennsylvania 19105-1521. Comments can also be sent electronically to Comments.applications@phil.frb.org:

1. Stephen M. Holden, Merchantville, New Jersey; as co-Voting Trustee of the J. Mark Baiada Voting Trust, Toms River, New Jersey, to join J. Mark Baiada, Moorestown, New Jersey; Ann Baiada, Moorestown, New Jersey; the 1994 Baiada Family Trust, Evergreen, Colorado; Michael Baiada, Evergreen, Colorado, as trustee of the 1994 Baiada Family Trust; L. Mathew and Janet Baiada, Moorestown, New Jersey; Paul Melan Baiada, Moorestown, New Jersey; the Paul Melan Baiada 1999 Family Trust, Moorestown, New Jersey; Diane Baiada, Moorestown, New Jersey, as trustee of the Paul Melan Baiada 1999 Family Trust; the Baiada Trust for the Benefit of Caitlin Baiada, Moorestown, New Jersey; Diane Baiada and Michael Baiada, as trustees of the Baiada Trust for the Benefit of Caitlin Baiada; the Baiada Trust for the Benefit of Emma Baiada, Moorestown, New Jersey; Diane Baiada and Michael Baiada, as trustees of the Baiada Trust for the Benefit of Emma Baiada; and OceanFirst Bank, Toms River, New Jersey as the co-Voting Trustee of the J. Mark Baiada Voting Trust, Toms River, New Jersey, as part of a group acting in concert to retain voting shares and thereby retain shares of Cornerstone Financial Corporation, Mount Laurel, New Jersey, and thereby retain shares of Cornerstone Bank, Mount Laurel, New Jersey.

Board of Governors of the Federal Reserve System, October 5, 2017.
Ann Misback,
Secretary of the Board.

[FR Doc. 2017-21949 Filed 10-10-17; 8:45 am]

BILLING CODE P